DEPARTMENT OF ENERGY

Proposed Agency Information Collection

AGENCY: U.S. Department of Energy.

ACTION: Notice and Request for Comments.

SUMMARY: The Department of Energy (DOE) invites public comment on a proposed collection of information that DOE is developing for submission to the Office of Management and Budget (OMB) pursuant to the Paperwork Reduction Act of 1995. Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Comments regarding this proposed information collection must be received on or before March 28, 2016. If you anticipate difficulty in submitting comments within that period, contact the person listed in ADDRESSES as soon as possible.

ADDRESSES: Written comments may be sent to Cynthia Anderson by email at Cynthia.Anderson@NNSA.Doe.Gov

FOR FURTHER INFORMATION CONTACT: Requests for additional information or copies of the information collection instrument and instructions should be directed to Cynthia Anderson by email at Cynthia.Anderson@NNSA.Doe.Gov.

SUPPLEMENTARY INFORMATION: This information collection request contains: (1) OMB No.: New; (2) Information Collection Request Title: Energy and Jobs Survey; (3) Type of Request: New; (4) Purpose: The rapidly changing nature of energy production, distribution, and consumption throughout the U.S. economy is having a dramatic impact on job creation and economic competitiveness, but is inadequately understood and, in some sectors, incompletely measured. The new Energy and Jobs Survey will collect data from businesses in in-scope industries, quantifying and qualifying employment among energy activities, workforce demographics and the industry's perception on the difficulty of recruiting qualified workers. The data will be used to generate an annual Energy and Jobs Report; (5) Annual Estimated Number of Respondents: 30,000; (6) Annual Estimated Number of Total Responses: 10,000; (7) Annual Estimated Number of Burden Hours: 2,908.4; (8) Annual Estimated Reporting and Recordkeeping Cost Burden: 0.

Statutory Authority: Sec. 301 of the Department of Energy Organization Act (42 U.S.C. 7151); sec. 5 of the Federal Energy Administration Act of 1974 (15 U.S.C. 764); and sec. 103 of the Energy Reorganization Act of 1974 (42 U.S.C. 5813).

Issued in Washington, DC, on January 20, 2016.
Cynthia V. Anderson,
Senior Advisor, Office of the Secretary.

[FR Doc. 2016-01493 Filed 1-25-16; 8:45 am]

BILLING CODE 6450-01-P